DEPARTMENT OF THE INTERIOR

Office of the Secretary

Invasive Species Advisory Committee; Notice of a Meeting

AGENCY: Office of the Secretary, Interior.

ACTION: Notice of Public Meetings of the Invasive Species Advisory Committee.

SUMMARY: Pursuant to the provisions of the Federal Advisory Committee Act, notice is hereby given of meetings of the Invasive Species Advisory Committee (ISAC). Comprised of 30 nonfederal invasive species experts and stakeholders from across the nation, the purpose of the Advisory Committee is to provide advice to the National Invasive Species Council, as authorized by Executive Order 13112, on a broad array of issues related to preventing the introduction of invasive species and providing for their control and minimizing the economic, ecological, and human health impacts that invasive species cause. The Council is co-chaired by the Secretary of the Interior, the Secretary of Agriculture, and the Secretary of Commerce. The duty of the Council is to provide national leadership regarding invasive species issues.

Purpose of Meeting: To convene the full ISAC and to provide expert input and recommendations to NISC federal agencies and their partners on invasive species matters of national importance. While in session, ISAC will discuss the development of the next iteration of the National Invasive Species Management Plan, as well as ongoing progress under a variety of priority initiatives focused on invasive species early detection and rapid response (EDRR). The meeting agenda and supplemental materials are available on the NISC Web site at http://www.doi.gov/invasivespecies/isac/isac-meetings.cfm.

DATES: Meeting of the Invasive Species Advisory Committee: Wednesday, May 20, 2015: 8:30 a.m. to 5:00 p.m.; Thursday, May 21, 2015: 8:30 a.m. to 5:30 p.m.; Friday, May 22, 2015; 8:15 a.m.-12:00 p.m.

ADDRESSES: National Oceanic and Atmospheric Association (Building SSMC4), 1305 East-West Highway, Silver Spring, MD 20910. The general session will be held in Room 4527.

Note: All meeting participants and interested members of the public must be cleared through building security prior to being escorted to the meeting.

FOR FURTHER INFORMATION CONTACT: Kelsey Brantley, National Invasive Species Council Program Specialist and ISAC Coordinator, (202) 208-4122; Fax: (202) 208-4118, email: Kelsey_Brantley@ios.doi.gov.

Dated: April 15, 2015.
Christopher P. Dionigi,
Acting Executive Director, National Invasive Species Council.

[FR Doc. 2015-09054 Filed 4-20-15; 8:45 am]

BILLING CODE 4334-63-P